DEPARTMENT OF ENERGY

Federal Energy Regulatory Commission

Combined Notice of Filings #1

February 8, 2006.

Take notice that the Commission received the following electric rate filings.

Docket Numbers: ER04-520-004.

Applicants: Florida Power & Light Company.

Description: Florida Power & Light Co submits Service Agreement for Network Integration Transmission Service with Seminole Electric Coop, Inc in compliance with FERC's 5/21/04 Order.

File Date: 01/27/2006.

Accession Number: 20060201-0122.

Comment Date: 5 p.m. Eastern Time on Friday, February 17, 2006.

Docket Numbers: ER05-6-035; EL04-135-037; EL02-111-055; EL03-212-051.

Applicants: American Electric Power Service, Corporation et al.

Description: American Electric Power Service Corp et al submits a filing to revise the SECA charges under Attachment X of the PJM Interconnection, LLC OATT, effective 1/1/06.

File Date: 01/31/2006.

Accession Number: 20060203-0415.

Comment Date: 5 p.m. Eastern Time on Tuesday, February 21, 2006.

Docket Numbers: ER05-941-004.

Applicants: New York Independent System Operator, Inc.

Description: New York Independent System Operator, Inc submits compliance filing discussing financial risks.

File Date: 01/31/2006.

Accession Number: 20060131-5067.

Comment Date: 5 p.m. Eastern Time on Tuesday, February 21, 2006.

Docket Numbers: ER06-449-001.

Applicants: Florida Power Corporation.

Description: Florida Power Corp submits First Revised Sheet No. 20 to the Interchange Agreement with Orlando Utilities Commission.

File Date: 01/31/2006.

Accession Number: 20060202-0199.

Comment Date: 5 p.m. Eastern Time on Tuesday, February 21, 2006.

Docket Numbers: ER06-577-000.

Applicants: San Diego Gas & Electric Company.

Description: San Diego Gas & Electric Co submits an executed Reliability Must-Run Service Agreement with California Independent System Operator Corp.

File Date: 01/30/2006.

Accession Number: 20060207-0011.

Comment Date: 5 p.m. Eastern Time on Tuesday, February 21, 2006.

Docket Numbers: ER06-578-000.

Applicants: Southwest Power Pool, Inc.

Description: Southwestern Power Pool, Inc submits a revised unexecuted service agreement of Network Integration Transmission Service with Southwestern Public Service Co.

File Date: 01/31/2006.

Accession Number: 20060202-0194.

Comment Date: 5 p.m. Eastern Time on Tuesday, February 21, 2006.

Docket Numbers: ER06-579-000.

Applicants: Southwest Power Pool, Inc.

Description: Southwest Power Pool, Inc submits revised pages to its OATT intended to implement a rate change for pricing zone under the SFPP tariff.

File Date: 01/31/2006.

Accession Number: 20060202-0108.

Comment Date: 5 p.m. Eastern Time on Tuesday, February 21, 2006.

Docket Numbers: ER06-580-000.

Applicants: Midwest Independent Transmission System Operator, Inc.

Description: Midwest Independent Transmission System Oper, Inc submits a First Revised Network Integration Service Agreement with the City of Chelsea, Michigan.

File Date: 01/31/2006.

Accession Number: 20060202-0109.

Comment Date: 5 p.m. Eastern Time on Tuesday, February 21, 2006.

Docket Numbers: ER06-581-000.

Applicants: Midwest Independent Transmission System Operator, Inc.

Description: Midwest Independent Transmission System Operator, Inc submits First Revised Network Integration Service Agreement with the City of Portland, Michigan.

File Date: 01/31/2006.

Accession Number: 20060202-0110.

Comment Date: 5 p.m. Eastern Time on Tuesday, February 21, 2006.

Docket Numbers: ER06-582-000.

Applicants: Midwest Independent Transmission System Operator, Inc.

Description: Midwest Independent Transmission System Operator Inc submits Second Revised Network Integration Service Agreement with the City of St Louis, MI.

File Date: 01/31/2006.

Accession Number: 20060202-0111.

Comment Date: 5 p.m. Eastern Time on Tuesday, February 21, 2006.

Docket Numbers: ER06-583-000.

Applicants: Wolverine Power Supply Cooperative, Inc.

Description: Wolverine Power Supply Cooperative, Inc submits proposed changes to its Third Revised FERC Electric Rate Schedule No. 4 in compliance with Order 663.

File Date: 01/31/2006.

Accession Number: 20060202-0107.

Comment Date: 5 p.m. Eastern Time on Tuesday, February 21, 2006.

Docket Numbers: ER06-584-000.

Applicants: Central Maine Power Company.

Description: Central Maine Power Co submits an Unexecuted Large Generator Interconnection Agreement with NewPage Corp.

File Date: 01/31/2006.

Accession Number: 20060202-0106.

Comment Date: 5 p.m. Eastern Time on Tuesday, February 21, 2006.

Docket Numbers: ER06-585-000.

Applicants: Pacific Gas and Electric Company.

Description: Pacific Gas and Electric Co submits its twelfth quarterly filing of facilities agreements.

File Date: 01/31/2006.

Accession Number: 20060203-0468.

Comment Date: 5 p.m. Eastern Time on Tuesday, February 21, 2006.

Docket Numbers: ER06-586-000.

Applicants: Midwest Independent Transmission System Operator, Inc.

Description: The Midwest Independent Transmission System Operator, Inc and the Southern Minnesota Municipal Power Agency submit a revised formula rate template to Attachment O.

File Date: 01/31/2006.

Accession Number: 20060203-0019.

Comment Date: 5 p.m. Eastern Time on Tuesday, February 21, 2006.

Docket Numbers: ER06-587-000.

Applicants: Interstate Power and Light Company.

Description: Interstate Power and Light Co submits a request to change rates charged to its jurisdictional customers in Iowa, Illinois and Minnesota.

File Date: 01/31/2006.

Accession Number: 20060206-0033.

Comment Date: 5 p.m. Eastern Time on Tuesday, February 21, 2006.

Docket Numbers: ER06-588-000.

Applicants: Kansas City Power & Light Company.

Description: Kansas City Power & Light Co submits a proposed amendment to the Interim Load Regulation & Displacement Energy Service Schedule with the City of Marshall, Missouri.

File Date: 01/31/2006.

Accession Number: 20060202-0193.

Comment Date: 5 p.m. Eastern Time on Tuesday, February 21, 2006.

Docket Numbers: ER06-589-000.

Applicants: American Electric Power Company.

Description: American Electric Power Service Corp on behalf of AEP Operating Companies submits an interconnection and local delivery service agreement with the Village of Sycamore, Ohio.

File Date: 01/31/2006.

Accession Number: 20060202-0186.

Comment Date: 5 p.m. Eastern Time on Tuesday, February 21, 2006.

Docket Numbers: ER06-592-000.

Applicants: ISO New England, Inc.

Description: ISO New England Inc and New England Power Pool Participants Committee, submit transmittal letter and the revisions to Market Rule 1.

Filed Date: 01/31/2006.

Accession Number: 20060202-0195.

Comment Date: 5 p.m. Eastern Time on Tuesday, February 21, 2006.

Docket Numbers: ER94-1188-038; ER98-4540-007; ER99-1623-007; ER98-1279-009; EL05-99-002.

Applicants: LG&E Energy Marketing Inc.; Louisville Gas & Electric Company; Kentucky Utilities Company; Western Kentucky Energy Corporation; LG&E Energy Marketing, Inc., et al.

Description: LG&E Energy Marketing Inc et al submit an updated market power analysis in compliance with FERC's 12/1/05 Order.

Filed Date: 01/30/2006.

Accession Number: 20060206-0185.

Comment Date: 5 p.m. Eastern Time on Tuesday, February 21, 2006.

Docket Numbers: ER98-411-013.

Applicants: Wolverine Power Supply Cooperative, Inc.

Description: Wolverine Power Supply Cooperative, Inc submits information of a change in status that may reflect a departure from the characteristics the Commission relied upon in granting its market-based rate authority.

Filed Date: 01/31/2006.

Accession Number: 20060202-0201.

Comment Date: 5 p.m. Eastern Time on Tuesday, February 21, 2006.

Docket Numbers: ER98-3760-012.

Applicants: California Independent System Operator Corporation.

Description: California Independent System Operator Corp submits plans for the implementation of competitive procurement of Voltage Support & Black Start services in compliance with FERC's 9/30/05 Order.

Filed Date: 01/30/2006.

Accession Number: 20060206-0170.

Comment Date: 5 p.m. Eastern Time on Tuesday, February 21, 2006.

Docket Numbers: ER99-2774-010.

Applicants: Duke Energy Trading and Marketing, L.L.C.

Description: Duke Energy Trading and Marketing, LLC submits revisions to its market-based rate tariff FERC Electric Tariff, Original Volume No. 1.

Filed Date: 01/31/2006.

Accession Number: 20060202-0185.

Comment Date: 5 p.m. Eastern Time on Tuesday, February 21, 2006.

Docket Numbers: ER99-3426-005.

Applicants: San Diego Gas & Electric Company.

Description: San Diego Gas & Electric Co submits an updated market power analysis related to its market-based rate authorization pursuant to Order 652.

Filed Date: 01/31/2006.

Accession Number: 20060203-0049.

Comment Date: 5 p.m. Eastern Time on Tuesday, February 21, 2006.

Docket Numbers: ER99-2948-007; ER00-2918-006; ER00-2917-006; ER05-261-003; ER01-556-005; ER01-557-005; ER01-558-005; ER01-559-005; ER01-560-005; ER01-1654-008; ER01-2641-006; ER05-728-003; ER01-1949-006; ER04-485-003.

Applicants: Baltimore Gas & Electric Company.

Description: Baltimore Gas & Electric Co et al. submits a notice of change in status with respect to transaction entered into by the Constellation Energy Commodities Group.

Filed Date: 01/30/2006.

Accession Number: 20060206-0182.

Comment Date: 5 p.m. Eastern Time on Tuesday, February 21, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-2187 Filed 2-15-06; 8:45 am]

BILLING CODE 6717-01-P